DEPARTMENT OF ENERGY

Federal Energy Regulatory Commission

Notice

June 1, 2000.

Take notice that the format of the notice issued pursuant to section 3(a) of the Government in the Sunshine Act, Pub. L. 94-409, 5 U.S.C. 552b, is being revised to reflect the new organizational structure of the Commission's technical offices.

Consent agenda items from the Commission's Office of Markets, Tariffs, and Rates will be listed first as CAE- and CAG-items (for electric and gas, respectively) followed by consent agenda items from the Commission's Office of Projects listed as CAH- and CAC-items (for hydro and certificate, respectively). Regular agenda items will be listed in the following order: H-, C-, ­M-, E-, and G- (for hydro, certificate, miscellaneous, electric, and gas, and items, respectively).

The new format will be used for the first meeting in June. Accordingly, the Sunshine Act Notice will be issued under this format on June 7, 2000.

In addition, beginning on June 7, 2000, the Sunshine Act Notice will be available in the HTML format on the day of issuance to all interested persons on the Commission's Internet Web-Site at the following locations: Daily Notices, Commission Meeting Information, and Office of the Secretary.

David P. Boergers,
Secretary.

[FR Doc. 00-14225 Filed 6-6-00; 8:45 am]

BILLING CODE 6717-01-M